DEPARTMENT OF TRANSPORTATION

Federal Motor Carrier Safety Administration

[Docket No. FMCSA-2016-0354]

Agency Information Collection Activities; Extension of a Currently-Approved Information Collection: Accident Recordkeeping Requirements

AGENCY: Federal Motor Carrier Safety Administration (FMCSA), DOT.

ACTION: Notice and request for comments.

SUMMARY: In accordance with the Paperwork Reduction Act of 1995 (PRA), FMCSA announces its plan to submit the Information Collection Request (ICR) described below to the Office of Management and Budget (OMB) for its review and approval. FMCSA is requesting approval to extend a currently-approved ICR entitled “Accident Recordkeeping Requirements.” This ICR relates to Agency requirements that motor carriers maintain a record of accidents involving their commercial motor vehicles (CMVs). On March 22, 2017, FMCSA published a Federal Register notice announcing an increase in the Agency's estimate of the total information-collection (IC) burden of this requirement and asked for public comment. No comments were received. The regulatory burden has not changed, but the population of motor carriers has increased, both organically and because the Agency now includes the population of intrastate motor carriers in this ICR.

DATES: Please send your comments by August 7, 2017. OMB must receive your comments by this date to act quickly on the ICR.

ADDRESSES: All comments should reference Federal Docket Management System (FDMS) Docket Number FMCSA-2016-0354. Interested persons are invited to submit written comments on the proposed information collection to the Office of Information and Regulatory Affairs, Office of Management and Budget. Comments should be addressed to the attention of the OMB Desk Officer, DOT/FMCSA, and sent via electronic mail to oira_submission@omb.eop.gov, faxed to (202) 395-6974, or mailed to the Office of Information and Regulatory Affairs, Office of Management and Budget, Docket Library, Room 10102, 725 17th Street NW., Washington, DC 20503.

FOR FURTHER INFORMATION CONTACT: Mr. Robert F. Schultz, FMCSA Driver and Carrier Operations Division, DOT, FMCSA, West Building 6th Floor, 1200 New Jersey Avenue SE., Washington, DC 20590. Telephone: 202-366-4325. Email: MCPSD@dot.gov.

SUPPLEMENTARY INFORMATION:

Title: Accident Recordkeeping Requirements.

OMB Control Number: 2126-0009.

Type of Request: Extension of a currently approved information collection.

Respondents: Motor Carriers.

Estimated Number of Respondents: 886,122 motor carriers.

Estimated Number of Responses: 120,522.

Estimated Time per Response: 18 minutes.

Expiration Date: July 31, 2017.

Frequency of Response: On occasion.

Estimated Total Annual Burden: 36,157 hours [120,522 accidents × 18 minutes per response/60 minutes in an hour].

Definition: “Accident” means an occurrence involving a CMV operating on a public road that results in: (1) A fatality, (2) bodily injury to a person who, because of the injury, immediately receives medical treatment away from the scene of the accident, or (3) one or more motor vehicles being towed from the scene due to disabling damage (49 CFR 390.5 and as well as in section 390.5T while in effect).

Background

Title 49 of the Code of Federal Regulations, section 390.15(b), requires motor carriers to make certain specified records and information pertaining to CMV accidents available to an authorized representative or special agent of the FMCSA upon request or as part of an inquiry. Motor carriers are required to maintain an “accident register” consisting of information concerning all “accidents” involving their CMVs (49 CFR 390.15(b)(see “Definition: Accident,” above). The following information must be recorded for each accident: Date, location, driver name, number of injuries, number of fatalities, and whether certain dangerous hazardous materials were released. In addition, the motor carrier must maintain copies of all accident reports required by insurers or governmental entities. Motor carriers must maintain this information for three years after the date of the accident. Section 390.15 does not require motor carriers to submit any information or records to FMCSA or any other party.

This ICR supports the DOT strategic goal of safety. By requiring motor carriers to gather and record information concerning CMV accidents, FMCSA is strengthening its ability to assess the safety performance of motor carriers. This information is a valuable resource in Agency initiatives to prevent, and reduce the severity of, CMV crashes.

The Agency increases its burden estimate from 26,700 to 36,157 hours. The regulatory requirement has not changed for accident recordkeeping. The increase is due to two revised estimates: (1) The population of motor carriers subject to the regulation, from 520,000 to 886,122, and (2) the number of reportable accidents, from 89,000 to 120,522. The Agency has amended the population of motor carriers to include the accident recordkeeping burden of intrastate motor carriers. In past estimates, the Agency had taken the position that the accident recordkeeping of intrastate carriers occurred as a result of State law. However, the OMB has directed FMCSA to include such intrastate activities in its IC estimates, so we do so in this burden estimate statement for the first time. The Agency estimates that 886,122 motor carriers are subject to accident register requirements (508,367 interstate and 377,755 intrastate motor carriers). The Agency further estimates that the number of accidents that must be reported by intrastate or interstate motor carriers is 120,522.

The Agency received no comments to the 60-day Federal Register notice published on March 22, 2017 (82 FR 14793).

Public Comments Invited

FMCSA requests that you comment on any aspect of this information collection, including: (1) Whether the proposed collection is necessary for FMCSA to perform its functions, (2) the accuracy of the estimated burden, (3) ways for the FMCSA to enhance the quality, usefulness, and clarity of the collected information, and (4) ways that the burden could be minimized without reducing the quality of the collected information.

Issued under the authority delegated in 49 CFR 1.87 on: June 28, 2017.
G. Kelly Regal,
Associate Administrator for Office of Research and Information Technology.

[FR Doc. 2017-14272 Filed 7-6-17; 8:45 am]

BILLING CODE 4910-EX-P